DEPARTMENT OF COMMERCE

International Trade Administration

[A-552-801]

Amended Final Results of Antidumping Duty New Shipper Review: Certain Frozen Fish Fillets from the Socialist Republic of Vietnam

AGENCY: Import Administration, International Trade Administration, Department of Commerce.

EFFECTIVE DATE: August 15, 2008.

FOR FURTHER INFORMATION CONTACT: Matthew Renkey, AD/CVD Operations, Office 9, Import Administration, International Trade Administration, U.S. Department of Commerce, 14th Street and Constitution Avenue NW, Washington, DC 20230; telephone: (202) 482-2312.

SUPPLEMENTARY INFORMATION:

Background

On June 30, 2008, the Department of Commerce (“Department”) published in the Federal Register the final results of the new shipper reviews of the antidumping duty order on certain frozen fish fillets from the Socialist Republic of Vietnam (“Vietnam”). See Certain Frozen Fish Fillets from the Socialist Republic of Vietnam: Final Results and Partial Rescission of New Shipper Reviews, 73 FR 36840 (June 30, 2008) (“Final Results”) and accompanying Issues and Decision Memorandum. The period of review (“POR”) covered August 1, 2006, through January 1, 2007. On July 3, 2008, Anvifish filed a timely ministerial error allegation with respect to the Department's antidumping duty margin calculation in the Final Results. No other party filed ministerial error comments or rebuttal comments.

Scope of the Order

The product covered by this order is frozen fish fillets, including regular, shank, and strip fillets and portions thereof, whether or not breaded or marinated, of the species Pangasius Bocourti, Pangasius Hypophthalmus (also known as Pangasius Pangasius), and Pangasius Micronemus. Frozen fish fillets are lengthwise cuts of whole fish. The fillet products covered by the scope include boneless fillets with the belly flap intact (“regular” fillets), boneless fillets with the belly flap removed (“shank” fillets), boneless shank fillets cut into strips (“fillet strips/finger”), which include fillets cut into strips, chunks, blocks, skewers, or any other shape. Specifically excluded from the scope are frozen whole fish (whether or not dressed), frozen steaks, and frozen belly-flap nuggets. Frozen whole dressed fish are deheaded, skinned, and eviscerated. Steaks are bone-in, cross-section cuts of dressed fish. Nuggets are the belly-flaps.

The subject merchandise will be hereinafter referred to as frozen “basa” and “tra” fillets, which are the Vietnamese common names for these species of fish. These products are classifiable under tariff article codes 1604.19.4000, 1604.19.5000, 0305.59.4000, 0304.29.6033 (Frozen Fish Fillets of the species Pangasius including basa and tra) of the Harmonized Tariff Schedule of the United States (“HTSUS”).¹ This order covers all frozen fish fillets meeting the above specification, regardless of tariff classification. Although the HTSUS subheading is provided for convenience and customs purposes, our written description of the scope of the order is dispositive.

¹ Until July 1, 2004, these products were classifiable under tariff article codes 0304.20.60.30 (Frozen Catfish Fillets), 0304.20.60.96 (Frozen Fish Fillets, NESOI), 0304.20.60.43 (Frozen Freshwater Fish Fillets) and 0304.20.60.57 (Frozen Sole Fillets) of the HTSUS. Until February 1, 2007, these products were classifiable under tariff article code 0304.20.60.33 (Frozen Fish Fillets of the species Pangasius including basa and tra) of the HTSUS.

Ministerial Errors

A ministerial error is defined in section 751(h) of the Act and further clarified in 19 CFR 351.224(f) as “an error in addition, subtraction, or other arithmetic function, clerical error resulting from inaccurate copying, duplication, or the like, and any other similar type of unintentional error which the Secretary considers ministerial.” Anvifish contends that the Department's margin calculation program contains a ministerial error in the deduction for port electricity charges. Based on verification, we noted that for one of the shipments to its affiliated U.S. customer, Anvifish incurred additional electricity charges at the port. Anvifish states that in the Final Results, the deduction for port electricity charges was calculated incorrectly using the individual quantities of the CEP sales observations as the denominator, whereas the denominator should actually be the total quantity of all CEP sales made from that shipment.

After analyzing Anvifish's comments, we have determined, in accordance with 19 CFR 351.224(e), that a ministerial error was made. Specifically, we agree with Anvifish that we used the incorrect denominator for the port electricity deduction. The language in the margin calculation program for the Final Results inadvertently used the quantities of the individual CEP sales, rather than the total quantity of all CEP sales that Anvifish's affiliated U.S. customer made from the affected shipment. The specific calculation change to correct this ministerial error can be found in the “Memorandum to the File, through Alex Villanueva, Program Manager, Office 9, Import Administration, from Matthew Renkey, Senior Analyst, Office 9, Subject: Amended Final Results Analysis for Anvifish Co., Ltd.,” (August 6, 2008) (“Amended Final Results Analysis Memo”). The Amended Final Results Analysis Memo is on file in the Central Records Unit, room 1117 at the Department's headquarters.

Therefore, in accordance with section 751(h) of the Act and 19 CFR 351.224(e), we are amending the Final Results of Anvifish's new shipper review of certain frozen fish fillets from Vietnam. The revised final weighted-average dumping margin for Anvifish is as follows:

Certain Frozen Fish Fillets from Vietnam - Weighted-Average Dumping Margins
Manufacturer/Exporter | Weighted-Average Deposit Rate
Anvifish Co., Ltd. | 0.00 %

Cash Deposit Requirements

This cash deposit rate will be effective retroactively on any entries made on or after June 30, 2008, for all shipments of the subject merchandise entered, or withdrawn from warehouse, for consumption as provided for by section 751(a)(2)(C) of the Act: (1) for subject merchandise produced and exported by Anvifish, no cash deposit will be required; (2) for subject merchandise exported by Anvifish, but not manufactured by Anvifish, the cash deposit rate will continue to be the Vietnam-wide rate (i.e., 63.88 percent); and (3) for subject merchandise manufactured by Anvifish, but exported by any other party, the cash deposit rate will be the rate applicable to the exporter. These cash deposit requirement will remain in effect until further notice.

Assessment

The Department intends to issue assessment instructions to CBP 15 days after the publication date of these amended final results of review. Where an importer (or customer)-specific per-unit rate is zero or de minimis, we will instruct CBP to liquidate appropriate entries of subject merchandise without regard to antidumping duties that are entered, or withdrawn from warehouse, for consumption on or after June 30, 2008, and to grant a refund for any overcollection on such entries if the importer makes such a request pursuant to 19 USC 1520(a)(4). See 19 CFR 351.106(c)(2).

These amended final results are published in accordance with sections 751(h) and 777(i)(1) of the Act.

Dated: August 6, 2008.
David A. Spooner,
Assistant Secretary for Import Administration.

[FR Doc. E8-18948 Filed 8-14-08; 8:45 am]

BILLING CODE 3510-DS-S